DEPARTMENT OF LABOR

Employment and Training Administration

[TA-W-59,054]

Epson Portland, Inc., Hillsboro, OR; Affirmative Determinations for Worker Adjustment Assistance and Alternative Trade Adjustment Assistance; Correction

This notice rescinds the notice of certification of eligibility to apply for Alternative Trade Adjustment Assistance applicable to TA-W-59,054, which was published in the Federal Register on May 17, 2006 (71 FR 28709-28711) in FR Document E6-7526, Billing Code 451030-P.

This rescinds the certification of eligibility for workers of TA-W-59,054, to apply for Alternative Trade Adjustment Assistance and confirms eligibility to apply for Worker Adjustment Assistance as identified on page 28709 in the third column, the first TA-W-number listed.

The Department appropriately published in the Federal Register May 17, 2006, page 28711, under the notice of Negative Determinations for Alternative Trade Adjustment Assistance, the denial of eligibility applicable to workers of TA-W-59,054. The notice appears on page 28711 in the second column, the first TA-W-number listed.

Signed in Washington, DC, this 15th day of August 2006.
Erica R. Cantor,
Director, Division of Trade Adjustment Assistance.

[FR Doc. E6-14143 Filed 8-24-06; 8:45 am]

BILLING CODE 4510-30-P